DEPARTMENT OF AGRICULTURE

Forest Service

Public Meeting of the Black Hills National Forest Advisory Board

AGENCY: Forest Service, USDA.

ACTION: Notice of meeting.

SUMMARY: The Black Hills National Forest Advisory Board (NFAB) will hold a meeting to review its charter, discuss its roles and responsibilities in relation to the Black Hills National Forest (BHNF) management, and establish operational procedures. Secretary of Agriculture Ann M. Veneman approved the board's formation on January 16, 2003, and Regional Forester Rick Cables appointed 15 members to the board in early February 2003. The meeting is open, and the public may attend any part of the meeting.

DATES: The meeting will be held on Saturday, March 29, 2003, from 9:30 a.m. to 2:30 p.m.

ADDRESSES: The meeting will take place at the Ramkota Best Western Hotel located at 2111 LaCrosse Street, Rapid City, SD.

FOR FURTHER INFORMATION CONTACT: Lois Ziemann, Black Hills National Forest, 25041 North Highway 16, Custer, SD 57730, (605) 673-9200.

Dated: February 28, 2003.
William G. Schleining,
Acting Black Hills National Forest Supervisor.

[FR Doc. 03-5249 Filed 3-5-03; 8:45 am]

BILLING CODE 3410-11-M